DEPARTMENT OF JUSTICE

[OMB Number 1105-0NEW]

Agency Information Collection Activities; Proposed eCollection eComments Requested; New Collection; Defined Monetary Assistance Victims Reserve

AGENCY: Executive Office for United States Attorneys, Department of Justice.

ACTION: 60-Day notice.

SUMMARY: The Executive Office for United States Attorneys (EOUSA), Department of Justice (DOJ), will be submitting the following information collection request to the Office of Management and Budget (OMB) for review and approval in accordance with the Paperwork Reduction Act of 1995.

DATES: Comments are encouraged and will be accepted for 60 days until January 2, 2024.

FOR FURTHER INFORMATION CONTACT: If you have additional comments especially on the estimated public burden or associated response time, suggestions, or need a copy of the proposed information collection instrument with instructions or additional information, please contact Karen Rolley, Executive Office for United States Attorneys, United States Department of Justice, 950 Pennsylvania Avenue NW, Room 2242, Washington, DC 20530-0001; telephone: 202-256-6278, email: karen.rolley@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Amy, Vicky, and Andy Child Pornography Victim Assistance Act of 2018 (“the Act”), Public Law 115-299, established the Child Pornography Victims Reserve (Reserve) to provide defined monetary assistance to eligible victims who are depicted in child pornography that is the basis of certain convictions. The Department will make payment from the Reserve to an eligible individual pursuant to a court order issued under the AVAA, upon receipt of the order, and requisite information from the claimant.

Overview of This Information Collection

1. Type of Information Collection: New collection.

2. The Title of the Form/Collection: Defined Monetary Assistance Victims Reserve.

3. The agency form number, if any, and the applicable component of the Department sponsoring the collection: No form number. Sponsor: Executive Office for United States Attorneys.

4. Affected public who will be asked or required to respond, as well as the obligation to respond: Affected Public: individuals or households. The obligation to respond is voluntary and required to obtain or retain a benefit.

5. An estimate of the total number of respondents and the amount of time estimated for an average respondent to respond: Ex: The total or estimated number of respondents for this new collection is 150. The time per response is 2 hours to complete the form.

6. An estimate of the total annual burden (in hours) associated with the collection: Ex: The total estimated annual burden hours for this collection 300 burden hours (150 × 120 min = 300 hours.)

7. An estimate of the total annual cost burden associated with the collection, if applicable: $.47,000.

Total Burden Hours
Activity | Number of respondents | Frequency | Total annual responses | Time per response (hours) | Total annual burden (hours)
Victim Reserve (recordkeeping and reporting) | 150 | On occasion | 150 | 2 | 300
Unduplicated Totals | 150 |  | 150 |  | 300

If additional information is required contact: Darwin Arceo, Department Clearance Officer, United States Department of Justice, Justice Management Division, Policy and Planning Staff, Two Constitution Square, 145 N Street NE, 4W-218, Washington, DC.

Dated: October 27, 2023.
Darwin Arceo,
Department Clearance Officer for PRA, U.S. Department of Justice.

[FR Doc. 2023-24108 Filed 10-31-23; 8:45 am]

BILLING CODE 4410-07-P